FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 8, 2015.

A. Federal Reserve Bank of St. Louis (Yvonne Sparks, Community Development Officer) P.O. Box 442, St. Louis, Missouri 63166-2034:

1. Bobbi Lynn Blanton-Wilson, Bronston, Kentucky; to join the previously approved Wilson family control group and acting in concert with the group, to control more than 10 percent of First Bancorp, Inc., and thereby control the Frist National Bank of Russell Springs, both of Russell Springs, Kentucky. The Wilson family control group consists of Ms. Blanton-Wilson, James Terill Wilson, Bronston, Kentucky; James T. Wilson, Jr., Sarah Wilson, James Terill Wilson IRA, James T. Wilson, Jr. Trust, Sarah Wilson Trust, James T. Wilson, Jr. Investment Trust, Sarah Wilson Investment Trust, all of Bronston, Kentucky, and Terry S. Wilson, Russell Springs, Kentucky.

Board of Governors of the Federal Reserve System, June 19, 2015.
Michael J. Lewandowski,
Assistant Secretary of the Board.

[FR Doc. 2015-15830 Filed 6-26-15; 8:45 am]

BILLING CODE 6210-01-P